DEPARTMENT OF LABOR

Employment and Training Administration

Proposed Information Collection Request

ACTION: Submitted for Public Comment and Recommendations: Labor Surplus Areas.

SUMMARY: The Department of Labor, as part of its continuing effort to reduce paperwork and respondent burden conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration (ETA) is soliciting comments concerning the proposed extension of the collection of data contained in the procedures to petition for classification as a Labor Surplus Area (LSA) under exceptional circumstances criteria.

DATES: Submit comments on or before September 7, 2004.

ADDRESSES: Anthony D. Dais, Acting Director, USES/ALMIS, Employment and Training Administration, 200 Constitution Avenue, NW., Room S-4231, Washington, DC 20210; (202) 693-2784 (not a toll-free number); Internet address: dais.anthony@dol.gov; FAX: (202) 693-3015.

SUPPLEMENTARY INFORMATION: I. Background: Under Executive Orders 12073 and 10582, and 20 CFR Parts 651 and 654, the Secretary of Labor is required to classify LSAs and disseminate this information for the use of all Federal agencies. This information is used by Federal agencies for various purposes including procurement decisions, food stamp waiver decisions, certain small business loan decisions, as well as other purposes determined by the agencies. The LSA list is issued annually, effective October 1 of each year, utilizing data from the Bureau of Labor Statistics. Areas meeting the criteria are classified as LSAs.

Department regulations specify that the Department can add other areas to the annual LSA listing under the exceptional circumstance criteria. Such additions are based upon information contained in petitions submitted by the State Workforce Agencies (SWAs) to the ETA's national office. These petitions contain specific economic information about an area in order to provide ample justification for adding the area to the LSA listing under the exceptional circumstances criteria. An area is eligible for classification as a LSA if it meets all of the criteria, and if the exceptional circumstance event is not temporary or seasonal. This data collection pertains only to data submitted voluntarily by states in exceptional circumstances petitions.

Most of the information contained in the SWA LSA petitions is already available from other sources, e.g., internal reports, statistical programs, newspaper clippings, etc. The petitions are not intended to provide new (unduplicated) information but serve to bring various types of information together in a single document in order that a LSA classification determination can be made. The only information which SWAs may have to develop for use in the petition is the 12-month projections of the area's labor force and unemployment. No periodic reporting is required.

II. Desired Focus of Comments: The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• minimize the burden of the collection of information on those who are to respond, including through the use of appropriate automated, electronic, mechanical, or other technological collection techniques or other forms of information technology, e.g., permitting electronic submissions of responses.

A copy of the proposed information collection request (ICR) can be obtained by contacting the office below in the ADDRESSES section of this notice.

III. Current Actions: This is a request for the Office of Management and Budget (OMB) approval under the Paperwork Reduction Act of 1995 (44 U.S.C. 3506(c)(2)(A) of an extension to an existing collection of information previously approved and assigned OMB Control No. 1205-0207. There is a reduction in burden based on an experience rate for the last two years of the approved data collection period: one petition in 2003 and zero in 2004.

Type of Review: Extension without change.

Agency: Employment and Training Administration.

Title: Procedures for Classifying Labor Surplus Areas Exceptional Circumstances Reporting.

OMB Number: 1205-0207.

Affected Public: State Workforce Agencies.

Burden Table below:

Total Estimated Cost to SWAs: $208 ($24.93 average wage × 4 hours = 99.72 × 1 respondent = $99.72).

Form | Number of respondents | Response per year | Total responses | Hours per response | Total burden hours
Current Procedure | 5 | 5 | 5 | 4 | 20
Proposed Procedure | 1 | 1 | 1 | 4 | 4

Total Burden Cost (capital/startup): 0.

Total Burden Cost (operating/maintaining): 0.

Comments submitted in response to this notice will be summarized and/or included in the request for OMB approval of the ICR; they will also become a matter of public record.

Dated: June 28, 2004.
Grace A. Kilbane,
Administrator, Office of Workforce Investment.

[FR Doc. 04-15175 Filed 7-2-04; 8:45 am]

BILLING CODE 4510-30-P